DEPARTMENT OF ENERGY

Federal Energy Regulatory Commission

[Docket No. RP13-1031-000]

Trailblazer Pipeline Company LLC; Notice of Technical Conference

Take notice that a technical conference will be held on Tuesday, September 10, 2013, at 10:00 a.m., in a room to be designated at the offices of the Federal Energy Regulatory Commission, 888 First Street NE., Washington, DC 20426.

The Commission's July 31, 2013 Order in the above-captioned proceeding ¹ directed that a technical conference be held to address certain non-rate issues raised by Trailblazer Pipeline Company LLC's (Trailblazer) July 1, 2013 filing. At the technical conference, Trailblazer should be prepared to address all the issues set for technical conference by the July 31, 2013 Order, and to provide support for its positions, including technical, engineering, and operational support for its proposed gas quality specifications. Consistent with the Commission's Policy Statement, Trailblazer should be prepared to explain how its proposal differs from the Natural Gas Council Plus Interim Guidelines. See Natural Gas Interchangeability, Policy Statement on Provisions Governing Natural Gas Quality and Interchangeability in Interstate Natural Gas Pipeline Company Tariffs, 115 FERC ¶ 61,325, at P 34, 37 (2006).

¹ Trailblazer Pipeline Company LLC, 144 FERC ¶ 61,084 (2013) (July 31, 2013 Order).

FERC conferences are accessible under section 508 of the Rehabilitation Act of 1973. For accessibility accommodations please send an email to accessibility@ferc.gov or call toll free (866) 208-3372 (voice) or 202-502-8659 (TTY), or send a fax to 202-208-2106 with the required accommodations.

All interested persons are permitted to attend. For further information please contact Andrew Knudsen at (202) 502-6527 or email Andrew.Knudsen@ferc.gov.

Dated: August 8, 2013.
Kimberly D. Bose,
Secretary.

[FR Doc. 2013-19820 Filed 8-14-13; 8:45 am]

BILLING CODE 6717-01-P